NATIONAL FOUNDATION ON THE ARTS AND THE HUMANITIES

National Endowment for the Arts; Combined Arts Advisory Panel.

Pursuant to Section 10(a)(2) of the Federal Advisory Committee Act (Pub. L. 92-463), as amended, notice is hereby given that four meetings of the Combined Arts Advisory Panel to the National Council on the Arts will be held at the Nancy Hanks Center, 1100 Pennsylvania Avenue, NW, Washington, DC, 20506 as follows:

Visual Arts Section (Creativity & Organizational Capacity catgories)_July 10-13, 2000, Room 716. A portion of this meeting, from 2 p.m. to 3 p.m. on July 12th, will be open to the public for policy discussion. The remaining portions of this meeting, from 9 a.m. to 7 p.m. on July 10th, from 9 a.m. to 6 p.m. on July 11th, from 9 a.m. to 2 p.m. and 3 p.m. to 6 p.m. on July 12th, and from 9 a.m. to 5 p.m. on July 13th will be closed.

Literature section (Creativity & Organizational Capacity categories)—July 17-19, 2000, in Room 708. A portion of this meeting, from 11 a.m. to 1 p.m. on July 19th, will be open to the public for discussion of policy, guidelines, and needs of the field. The remaining portions of this meeting, from 9 a.m. to 7 p.m. on July 17th and 18th and from 9 a.m. to 11 a.m. and 1 p.m. to 5 p.m. on July 19th will be closed.

Music section A (Creativity & Organizational Capacity categories)—July 17-20, 2000 in room 716. A portion of this meeting, from 10 a.m. to 12 p.m. on July 20th, will be open to the public for discussion of field needs, leadership initiatives, and guidelines. The remaining portions of this meeting, from 9 a.m. to 5 p.m. on July 17th through 19th and from 9 a.m. to 10 a.m. on July 20th, will be closed.

Music section B (Creativity category)—July 31-August 3, 2000 in Room 716. A portion of this meeting, from 4 p.m. to 5:30 p.m. on August 2nd, will be open to the public for discussion of field needs, leadership initiatives, and guidelines. The remaining portions of this meeting, from 9 a.m. to 5 p.m. on July 31st and August 1st, from 9 a.m. to 4 p.m. on August 2nd, and from 9 a.m. to 12 p.m. on August 3, will be closed.

The closed portions of these meetings are for the purpose of Panel review, discussion, evaluation, and recommendation on applications for financial assistance under the National Foundation of the Arts and the Humanities Act of 1965, as amended, including information given in confidence to the agency by grant applicants. In accordance with the determination of the Chairman of May 12, 2000, these sessions will be closed to the public pursuant to (c)(4)(6) and (9)(B) of section 552b of Title 5, United States Code.

Any person may observe meetings, or portions thereof, of advisory panels which are open to the public, and, if time allows, may be permitted to participate in the panel's discussions at the discretion of the panel chairman and with the approval of the full-time Federal employee in attendance.

If you need special accommodations due to a disability, please contact the Office of AccessAbility, National Endowment for the Arts, 1100 Pennsylvania Avenue, NW, Washington, DC 20506, 202/682-5532, TDY-TDD 202/682-5496, at least seven (7) days prior to the meeting.

Further information with reference to this meeting can be obtained from Ms. Kathy Plowitz-Worden, Office of Guidelines & Panel Operations, National Endowment for the Arts, Washington, DC 20506, or call 202/682-5691.

Dated: June 7, 2000.
Kathy Plowitz-Worden,
Panel Coordinator, Panel Operations, National Endowment for the Arts.

[FR Doc. 00-14825 Filed 6-12-00; 8:45 am]

BILLING CODE 7537-01-M